COMMODITY FUTURES TRADING COMMISSION

Global Markets Advisory Committee

AGENCY: Commodity Futures Trading Commission.

ACTION: Notice of meeting.

SUMMARY: The Commodity Futures Trading Commission (CFTC) announces that on February 12, 2014, from 2 p.m. to 5 p.m., the Global Markets Advisory Committee (GMAC) will hold a public meeting at the CFTC's Washington, DC, headquarters. The GMAC will discuss the CFTC staff's advisory issued on November 14, 2013, related to the CFTC's cross-border guidance addressing the applicability of certain Commission regulations.

DATES: The meeting will be held on Wednesday, February 12, 2014, from 2 p.m. to 5 p.m. Members of the public who wish to submit written statements in connection with the meeting should submit them by February 6, 2014.

ADDRESSES: The meeting will take place in the Conference Center at the CFTC's headquarters, Three Lafayette Centre, 1155 21st Street NW., Washington, DC 20581. Written statements should be submitted by electronic mail to: secretary@cftc.gov. Statements may also be submitted by mail to: Commodity Futures Trading Commission, Three Lafayette Centre, 1155 21st Street NW., Washington, DC 20581, attention: Office of the Secretary. Please use the title “Global Markets Advisory Committee” in any written statement you submit. Any statements submitted in connection with the committee meeting will be made available to the public, including by publication on the CFTC Web site, www.cftc.gov.

FOR FURTHER INFORMATION CONTACT: Ted Serafini, GMAC Designated Federal Officer, Commodity Futures Trading Commission, Three Lafayette Centre, 1155 21st Street NW., Washington, DC 20581; (202) 418-5010.

SUPPLEMENTARY INFORMATION: The CFTC GMAC will hold a public meeting on Wednesday, February 12, 2014, from 2 p.m. to 5 p.m. at the CFTC's Washington, DC headquarters. The GMAC meeting will focus on the CFTC staff's advisory issued on November 14, 2013, related to the CFTC's cross-border guidance addressing the applicability of certain Commission regulations.

The meeting will be open to the public with seating on a first-come, first-served basis. Persons requiring special accommodations to attend the meeting because of a disability should notify the contact person listed above.

Members of the public may also listen to the meeting by telephone by calling a domestic toll-free telephone or international toll or toll-free number to connect to a live, listen-only audio feed. Call-in participants should be prepared to provide their first name, last name, and affiliation. The call-in information is as follows:

Domestic Toll Free: 1-866-844-9416

International Toll and Toll Free: Will be posted on the CFTC's Web site, http://www.cftc.gov, on the page for the meeting, under Related Documents.

Conference ID: 3964578

Pass Code/Pin Code: 96457

After the meeting, a transcript of the meeting will be published through a link on the CFTC's Web site, http://www.cftc.gov. All written submissions provided to the CFTC in any form will also be published on the CFTC's Web site.

(Authority: 5 U.S.C. Appendix, Federal Advisory Committee Act, Sec. 10(a)(2)).

Dated: January 23, 2014.
Christopher J. Kirkpatrick,
Deputy Secretary of the Commission.

[FR Doc. 2014-01575 Filed 1-27-14; 8:45 am]

BILLING CODE 6351-01-P